FEDERAL MINE SAFETY AND HEALTH REVIEW COMMISSION

Sunshine Act Meeting; Change in Meeting Status

September 11, 2000.

Previously Announced

TIME AND DATE: 2 p.m., Thursday, September 14, 2000.

PLACE: Room 6005, 6th Floor, 1730 K Street, NW., Washington, DC.

STATUS: Open.

CHANGES IN THE MEETING: Because agency business so requires, the Commission has unanimously voted to change the status of the following meeting from open to closed, pursuant to 5 U.S.C. 552b(c)(10).

1. Secretary of Labor on behalf of Noe v. J & C Mining, Docket No. KENT 99-248-D.

No earlier announcement of the change was possible.

CONTACT PERSON FOR MORE INFORMATION: Jean Ellen, (202) 653-5629/(202) 708-9300 for TDD Relay/1-800-877-8339 for toll free.

Jean H. Ellen,
Chief Docket Clerk.

[FR Doc. 00-23846 Filed 9-13-00; 10:15 am]

BILLING CODE 6735-01-M